ENVIRONMENTAL PROTECTION AGENCY

[EPA-R08-OAR-2018-0349; FRL-10015-14-Region 8]

Clean Air Act Operating Permit Program; Notice of Issuance of Title V Federal Operating Permit to MPLX

AGENCY: Environmental Protection Agency (EPA).

ACTION: Notice of final action.

SUMMARY: This notice announces that the Environmental Protection Agency issued a final permit decision under Title V of the Clean Air Act (CAA) to MPLX for the operation of MPLX's Uintah County, Utah, Wonsits Valley Compressor Station.

DATES: EPA issued Title V Permit to Operate No. V-UO-000005-2018.00 to MPLX, effective September 16, 2020 under 40 CFR part 71. EPA issued the final permit decision as to the contested portions of this permit on September 16, 2020. Pursuant to section 307(b)(1) of the CAA, judicial review of EPA's final permit decision, to the extent it is available, may be sought by filing a petition for review in the United States Court of Appeals for the Tenth Circuit by November 30, 2020.

FOR FURTHER INFORMATION CONTACT: Colin Schwartz, Environmental Scientist, Air and Radiation Division (8ARD-PM), Environmental Protection Agency, Region 8, 1595 Wynkoop Street, Denver, Colorado 80202, telephone number: (303) 312-6043, email address: schwartz.colin@epa.gov.

SUPPLEMENTARY INFORMATION: Throughout this document whenever “we,” “us,” or “our” is used, we mean EPA. This SUPPLEMENTARY INFORMATION section is arranged as follows:

I. How can I get copies of this document and other related information?

Docket. EPA has established a docket for this action under Docket ID No. EPA-R08-OAR-2018-0349. Publicly available docket materials are available either electronically through www.regulations.gov or in hard copy at the Environmental Protection Agency, Region 8, Air and Radiation Division, 1595 Wynkoop Street, Denver, Colorado 80202. This facility is open from 8:30 a.m. to 4:30 p.m., Monday through Friday, excluding Federal holidays and facility closures due to COVID 19. We recommend that you telephone Colin Schwartz, Environmental Scientist, at (303) 312-6043 with any questions about reviewing the docket material. before visiting the Region 8 office.

II. Background

The 1990 amendments to the CAA established a comprehensive air quality permit program under the authority of Title V of the CAA. Title V requires certain facilities that emit large amounts of air pollution, or that meet other specified criteria, to obtain an operating permit, known as a Title V permit, after the source has begun to operate. This permit is an enforceable compilation of all enforceable terms, conditions, and limitations applicable to the source, and is designed to improve compliance by clarifying what facilities must do to control air pollution. EPA regulations implementing Title V are codified at 40 CFR part 71 for permits issued by EPA or its delegatees, and at 40 CFR part 70 for permits issued by states and local agencies pursuant to approved programs. A Title V permit is valid for no more than five years and may be renewed in five-year-increments.

MPLX, LP operates a facility in Uintah County, Utah, known as the Wonsits Valley Compressor Station. The owner of the facility is Andeavor Field Services, LLC. At the facility, natural gas is dehydrated and compressed before being routed offsite through a pipeline. The facility operates two control devices to control the emissions from the dehydration unit. In 2013, EPA issued an initial Title V permit for the Wonsits Valley facility pursuant to 40 CFR part 71. On May 13, 2020, EPA issued a renewed Title V permit to Andeavor and MPLX. See Title V Permit to Operate No. V-UO-000005-2018.00, Docket ID: EPA-R08-OAR-2018-0349. By its own terms, and consistent with 40 CFR 71.11(i)(2), most provisions of the renewal permit became effective on May 13, 2020. But on May 13, 2020, MPLX petitioned the EPA's Environmental Appeals Board (EAB) to review certain terms and conditions of the May 2020 Title V permit. Consequently, under 40 CFR 71.11(i)(2)(ii), the effective date of the contested terms and conditions of the permit was delayed.

III. Effect of This Action

On September 2, 2020, the EAB denied MPLX's petition for review. See In re MPLX, Permit No. V-UO-000005-2018.00, CAA Appeal No. 20-01 (EAB, Sep. 2, 2020) (Order Denying Review). Following the EAB's action, pursuant to 40 CFR 71.11(l)(5)(i), EPA issued a final permit decision as to the contested portions of the permit on September 16, 2020. All contested conditions of Title V Permit No. V-UO-000005-2018.00, as issued by EPA on May 13, 2020, were therefore final and effective as of September 16, 2020. Except as provided in the permit, the final Title V permit will expire on September 16, 2025.

Authority: 42 U.S.C. 7401 et seq.

Dated: September 23, 2020.
Debra Thomas,
Acting Regional Administrator, Region 8.

[FR Doc. 2020-21479 Filed 9-28-20; 8:45 am]

BILLING CODE 6560-50-P